DEPARTMENT OF COMMERCE

National Oceanic and Atmospheric Administration

RIN 0648-XD904

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team will hold a meeting, which is open to the public.

DATES: The meeting will be held Wednesday, May 13 to Friday, May 15, 2015. The meeting will begin at 8:30 a.m. on each day. On Wednesday and Thursday, the meeting will end at 5 p.m. or when business for the day is concluded. On Friday, the meeting will end at midday.

ADDRESSES: The meeting will be held in the Pacific Room, Southwest Fisheries Science Center, 8901 La Jolla Shores Dr., La Jolla, CA 92037.

Council address: Pacific Council, 7700 NE Ambassador Place, Suite 101, Portland, OR 97220-1384.

FOR FURTHER INFORMATION CONTACT: Kit Dahl, Pacific Council; telephone: (503) 820-2422.

SUPPLEMENTARY INFORMATION: The primary purpose of the meeting is to review analyses and prepare a report to the Council on its Swordfish Fishery Management and Monitoring Plan. The Plan contains options for managing and monitoring the California large mesh drift gillnet (DGN) fishery including high priority protected species hard caps, fishery performance objectives, and monitoring goals. If available, the Highly Migratory Species Management Team (HMSMT) may review preliminary exempted fishing permit applications that would be submitted or resubmitted to the Council at its June meeting. The HMSMT will also review updates to the Highly Migratory Species Stock Assessment and Fishery Evaluation (SAFE) Report. The HMSMT may also plan reports for other HMS items on the Council's June agenda, including international issues and the planned management strategy evaluation for North Pacific albacore tuna to be conducted by the International Scientific Committee for Tuna and Tuna-Like Species in the North Pacific Ocean.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

These meetings are physically accessible to people with disabilities. Requests for sign language interpretation or other auxiliary aids should be directed to Mr. Kris Kleinschmidt at (503) 820-2425 at least 5 days prior to the meeting date.

Dated: April 21, 2015.
Tracey L. Thompson,
Acting Deputy Director, Office of Sustainable Fisheries, National Marine Fisheries Service.

[FR Doc. 2015-09585 Filed 4-23-15; 8:45 am]

BILLING CODE 3510-22-P